DEPARTMENT OF HOUSING AND URBAN DEVELOPMENT

[Docket No. FR-4817-N-07]

Notice of Proposed Information Collection for Public Comment—Public Housing Homeownership Program—Application, Documentation, Reporting and Recordkeeping

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: July 22, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Public Housing Agency Homeownership—Documentation.

OMB Control Number: 2577-0233.

Description of the need for the information and proposed use: Public Housing Agencies (PHAs) make available public housing units; public housing projects, and other housing units or developments owned, assisted, or operated, or otherwise acquired for purchase by low-income families for use as principal residences by such families. Families who are interested in purchasing a unit must submit applications to the PHA or purchase and resale entities (PREs). A PRE must prepare and submit to the PHA and HUD a homeownership program before the PRE may purchase any public housing units or projects. The PRE must demonstrate legal and practical capability to carry out the program, provide a written agreement that specifies the respective rights and obligations of the PRE and the PRE, the PHA must develop a homeownership program and obtain HUD approval before it can be implemented, provide supporting documentation and additional supporting documentation for acquisition or non-public housing for homeownership. PHA applications can be submitted electronically via the Internet. PHAs will be required to maintain records and report annually on the public housing homeownership program.

Agency form numbers, if applicable: HUD 52860, if the Public and Indian Housing Information Center (PIC) is used for submission.

Members of affected public: State or local government.

Estimation of the total number of hours needed to pare the information collection including number of respondents, frequency of response, and hours of response: 1,000 respondents, annual submission, 9.7 hours per response; the total reporting burden is 9,720 hours.

Status of the proposed information collection: Extension.

Authority: Section 3506 of the Paperwork Reduction Act of 1995, 44 U.S.C. chapter 35, as amended.

Dated: May 19, 2003.
Michael Liu,
Assistant Secretary for Public and Indian Housing.

[FR Doc. 03-12928 Filed 5-22-03; 8:45 am]

BILLING CODE 4210-33-P